DEPARTMENT OF LABOR

Employment and Training Administration

[TA-W-70,198]

United Association of Journeymen and Apprentices of the Plumbing and Pipefitting Industry, Augusta, ME; Notice of Termination of Investigation

Pursuant to Section 223 of the Trade Act of 1974, as amended, an investigation was initiated in response to a petition filed on May 19, 2009 by a State of Maine Workforce Office representative on behalf of workers of United Association of Journeymen and Apprentices of the Plumbing and Pipefitting Industry, August, Maine.

The petitioner has requested that the petition is withdrawn. Consequently, the investigation has been terminated.

Signed at Washington, DC, this 14th day of July 2009.
Richard Church,
Certifying Officer, Division of Trade Adjustment Assistance.

[FR Doc. E9-18045 Filed 7-28-09; 8:45 am]

BILLING CODE 4510-FN-P